DEPARTMENT OF ENERGY

Notice of Cancellation of Environmental Impact Statement for the Colorado Springs Utilities Next-Generation CFB Coal Generating Unit, Fountain, CO

AGENCY: Department of Energy.

ACTION: Notice of cancellation of Environmental Impact Statement Process.

SUMMARY: The Department of Energy (DOE) is canceling the preparation of an Environmental Impact Statement (EIS) for a proposal by Colorado Springs Utilities (CSU) to design, construct, and operate a project known as the Next-Generation Circulating Fluidized Bed (CFB) Coal Generating Unit near Fountain, El Paso County, Colorado. DOE selected CSU's proposal for further consideration under DOE's Clean Coal Power Initiative competitive solicitation. CSU proposed building a new power plant at a site adjacent to the existing 227-megawatt Ray D. Nixon Power Plant on the Clear Springs Ranch, a 5,000-acre, CSU-owned property located approximately 17 miles south of Colorado Springs. The proposed project was intended to demonstrate advanced technologies for using a variety of fuels, including Powder River Basin sub-bituminous coal from Wyoming, bituminous coals from Illinois and Pennsylvania, waste coal, and wood waste, to produce electricity to meet forecasted demand. DOE issued a Notice of Intent to prepare an EIS for the proposal in the Federal Register on August 15, 2003 (68 FR 48893), and conducted a public scoping meeting in Fountain, Colorado, on September 3, 2003. On December 17, 2003, CSU announced its intention to cancel plans for the proposed project. In a letter to DOE dated January 9, 2004, CSU withdrew its application for the project. As a result, DOE is canceling the EIS process.

FOR FURTHER INFORMATION, CONTACT: Lloyd Lorenzi, National Energy Technology Laboratory, U.S. Department of Energy, P.O. Box 10940, Pittsburgh, PA 15236-0940, telephone (412) 386-6159, or electronic mail at lorenzi@netl.doe.gov.

Issued in Morgantown, WV, on this 15th day of September, 2004.
Ralph Carabetta,
Deputy Director, National Energy Technology Laboratory.

[FR Doc. 04-23919 Filed 10-25-04; 8:45 am]

BILLING CODE 6450-01-P